OFFICE OF PERSONNEL MANAGEMENT

Excepted Service

AGENCY: Office of Personnel Management (OPM).

ACTION: Notice.

SUMMARY: This notice identifies Schedule A, B, and C appointing authorities applicable to a single agency that were established or revoked from March 1, 2019 to March 31, 2019.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during March 2019.

Schedule B

No Schedule B Authorities to report during March 2019.

Schedule C

The following Schedule C appointing authorities were approved during March 2019.

Agency name | Organization name | Position title | Authorization No. | Effective date
DEPARTMENT OF AGRICULTURE | Office of the Assistant Secretary for Congressional Relations | Associate Director | DA190061 | 03/05/2019
| Office of Agricultural Marketing Service | Special Assistant | DA190094 | 03/26/2019
| Farm Service Agency | Special Assistant | DA190085 | 03/25/2019
| Office of Communications | Deputy Director | DA190075 | 03/05/2019
|  | Deputy Press Secretary | DA190091 | 03/26/2019
| Office of the Assistant Secretary for Administration | Senior Advisor | DA190087 | 03/25/2019
| Office of the Secretary | Advance Lead | DA190057 | 03/14/2019
|  | Chief of Staff | DA190042 | 03/26/2019
|  | Senior Advisor | DA190092 | 03/26/2019
| Rural Housing Service | Policy Advisor | DA190080 | 03/25/2019
DEPARTMENT OF COMMERCE | Bureau of Industry and Security | Senior Advisor | DC190055 | 03/25/2019
| Bureau of the Census | Senior Advisor | DC190052 | 03/11/2019
| Office of Advance, Scheduling and Protocol | Director of Advance, Scheduling and Protocol | DC190060 | 03/13/2019
| Office of Executive Secretariat | Special Assistant | DC190051 | 03/25/2019
| Office of the Assistant Secretary for Economic Development | Senior Advisor | DC190059 | 03/25/2019
| Office of the Chief Financial Officer and Assistant Secretary for Administration | Chief of Staff for Administration | DC190045 | 3/6/2019
| Office of the Chief of Staff | Special Assistant | DC190056 | 03/13/2019
| Office of White House Liaison | Deputy Director, Office of White House Liaison | DC190069 | 03/12/2019
DEPARTMENT OF DEFENSE | Washington Headquarters Services | Defense Fellow | DD190062 | 03/15/2019
DEPARTMENT OF THE ARMY | Office Assistant Secretary Army (Acquisition, Logistics and Technology) | Special Assistant (Strategy and Acquisition Reform) | DW190022 | 03/11/2019
DEPARTMENT OF EDUCATION | Office of Communications and Outreach | Confidential Assistant | DB190064 | 03/04/2019
| Office of the General Counsel | Attorney Adviser | DB190068 | 03/06/2019
| Office for Civil Rights | Attorney Adviser | DB190069 | 03/06/2019
| Office of the Secretary | Confidential Assistant | DB190075 | 03/15/2019
| Office of Career Technical and Adult Education | Confidential Assistant | DB190071 | 03/26/2019
DEPARTMENT OF ENERGY | Office of Policy | Senior Advisor | DE190058 | 03/05/2019
| Office of the Deputy Secretary | Nuclear Engineer (Senior Advisor for Nuclear Policy) | DE190061 | 03/15/2019
| Office of Cybersecurity, Energy Security & Emergency Response | Special Assistant | DE190076 | 03/19/2019
| Office of Management | Deputy Staff Secretary | DE190067 | 03/20/2019
| Office of Public Affairs | Digital Director | DE190071 | 03/22/2019
| Office of the Assistant Secretary for Congressional and Intergovernmental Affairs | Deputy Assistant Secretary for Senate Affairs | DE190073 | 03/22/2019
ENVIRONMENTAL PROTECTION AGENCY | Office of the Administrator Office of the Associate Administrator for Congressional and Intergovernmental Relations | White House Liaison Senate Affairs Specialist House Relations Specialist | EP190045 EP190049 EP190061 | 03/28/2019 03/08/2019 03/29/2019
| Office of the Associate Administrator for Policy | Special Advisor for Policy and Economics | EP190051 | 03/25/2019
| Office of the Executive Secretariat | Attorney-Advisor (General) | EP190056 | 03/22/2019
| Office of the General Counsel | Special Assistant for the Office of General Counsel | EP190059 | 03/19/2019
DEPARTMENT OF HEALTH AND HUMAN SERVICES | Office of Administration for Children and Families | Advisor | DH190091 | 03/26/2019
| Centers for Disease Control and Prevention | Director of Communications | DH190080 | 03/14/2019
| Office of Intergovernmental and External Affairs | Director of Intergovernmental Affairs | DH190088 | 03/26/2019
| Office of the Administrator | Senior Advisor (Substance Abuse) | DH190087 | 03/13/2019
| Office of the Assistant Secretary for Financial Resources | Policy Advisor | DH190073 | 03/01/2019
| Office of the Assistant Secretary for Health | Director of Media Affairs | DH190097 | 03/26/2019
| Office of the General Counsel | Assistant | DH190085 | 03/13/2019
| Office of the Secretary | Briefing Book Coordinator and Policy Advisor | DH190098 | 03/25/2019
DEPARTMENT OF HOMELAND SECURITY | Cybersecurity and Infrastructure Security Agency | Policy Advisor Special Assistant | DM190115 DM190119 | 03/14/2019 03/26/2019
|  | Strategic Action Officer | DM190127 | 03/26/2019
| Office of Assistant Secretary for Legislative Affairs | Legislative Advisor | DM190084 | 03/11/2019
| Office of the Assistant Secretary for Policy | Special Assistant | DM190096 | 03/07/2019
| Office of the Assistant Secretary for Public Affairs | Deputy Press Secretary | DM190125 | 03/26/2019
| Office of the United States Citizenship and Immigration Services | Advisor | DM190091 | 03/11/2019
| Office of the United States Immigration and Customs Enforcement | Communications Coordinator | DM190098 | 03/13/2019
DEPARTMENT OF HOUSING AND URBAN DEVELOPMENT | Office of the General Counsel Office of Community Planning and Development | Senior Counsel Senior Advisor | DU190039 DU190043 | 03/01/2019 03/14/2019
| Office of the Secretary | Deputy Chief of Staff | DU190048 | 03/22/2019
|  | Special Assistant | DU190051 | 03/25/2019
DEPARTMENT OF THE INTERIOR | Office of the Assistant Secretary—Water and Science | Senior Advisor for Water and Science | DI190036 | 03/25/2019
| Bureau of Safety and Environmental Enforcement | Senior Advisor-Bureau of Environmental Enforcement | DI190037 | 03/25/2019
| National Park Service | Special Assistant | DI190043 | 03/25/2019
| Secretary's Immediate Office | Press Secretary and Senior Advisor | DI190022 | 03/11/2019
|  | Advisor | DI190039 | 03/25/2019
|  | Special Assistant | DI190040 | 03/25/2019
|  | Deputy Director, Communications | DI190029 | 03/26/2019
|  | Principal Deputy Director Intergovernmental and External Affairs | DI190044 | 03/26/2019
|  | Deputy Director Intergovernmental and External Affairs | DI190046 | 03/26/2019
DEPARTMENT OF JUSTICE | Office of Civil Division | Senior Counsel | DJ190044 | 03/26/2019
| Executive Office for United States Attorneys | Secretary (3) | DJ190010 DJ190012 DJ190011 | 03/01/2019 03/01/2019 03/04/2019
| Office of Legislative Affairs | Senior Counsel | DJ190046 | 03/20/2019
| Office of Public Affairs | Public Affairs Specialist | DJ190034 | 03/14/2019
| Office of the Attorney General | Special Assistant | DJ190066 | 03/26/2019
DEPARTMENT OF LABOR | Office of Employment and Training Administration | Senior Policy Advisor | DL190046 | 03/29/2019
| Office of the Assistant Secretary for Policy | Senior Policy Advisor | DL190044 | 03/18/2019
| Office of the Chief Financial Officer | Chief of Staff | DL190048 | 03/26/2019
| Office of the Secretary | Advance Lead Senior Advisor | DL190045 DL190040 | 03/13/2019 03/25/2019
NATIONAL ENDOWMENT FOR THE HUMANITIES | National Endowment for the Humanities | Executive Assistant | NH190002 | 03/11/2019
OFFICE OF MANAGEMENT AND BUDGET | Office of the Director Office of Communications | Special Assistant Press Secretary | BO190010 BO190011 | 03/22/2019 03/22/2019
OFFICE OF NATIONAL DRUG CONTROL POLICY | Office of Legislative Affairs | Legislative Analyst | QQ190008 | 03/14/2019
OFFICE OF PERSONNEL MANAGEMENT | Office of Communications | Assistant Director of Communications for Policy and Operations | PM190022 | 03/27/2019
DEPARTMENT OF STATE | Bureau of Consular Affairs | Senior Advisor | DS190043 | 03/25/2019
| Bureau of Energy Resources | Senior Advisor | DS190046 | 03/25/2019
| Bureau of International Security and Nonproliferation | Senior Advisor | DS190004 | 03/26/2019
| Bureau of Public Affairs | Senior Advisor | DS190060 | 03/28/2019
| Office of Policy Planning | Special Assistant | DS190051 | 03/13/2019
| Office of the Secretary | Senior Advisor | DS190038 | 03/15/2019
|  | Special Advisor | DS190040 | 03/25/2019
|  | Special Assistant | DS190055 | 03/25/2019
| Office of the Under Secretary for Civilian Security, Democracy, and Human Rights | Senior Advisor | DS190020 | 03/25/2019
DEPARTMENT OF TRANSPORTATION | Office of the Administrator | Director of Governmental and Congressional Affairs | DT190044 | 03/15/2019
|  | Special Assistant for Governmental Affairs | DT190051 | 03/18/2019
|  | Senior Advisor for Policy and Infrastructure | DT190036 | 03/19/2019
|  | Director of Public Affairs | DT190047 | 03/19/2019
|  | Director of Governmental Affairs | DT190062 | 03/25/2019
|  | Director of Communications | DT190061 | 03/26/2019
| Assistant Secretary for Governmental Affairs | Governmental Affairs Officer (2) | DT190026 DT190046 | 03/19/2019 03/19/2019
| Executive Secretariat | Special Assistant | DT190054 | 03/27/2019
| Immediate Office of the Administrator | Special Assistant | DT190048 | 03/19/2019
| Office of the Secretary | Deputy Director for Scheduling and Operations | DT190045 | 03/04/2019
|  | Senior Advisor for Advance | DT190053 | 03/13/2019
|  | Advisor | DT190064 | 03/29/2019
DEPARTMENT OF THE TREASURY | Secretary of the Treasury | Special Assistant | DY190041 | 03/26/2019
DEPARTMENT OF VETERANS AFFAIRS | Office of the Assistant Secretary for Public and Intergovernmental Affairs | Speechwriter | DV190035 | 03/05/2019

The following Schedule C appointing authorities were revoked during March 2019.

Agency name | Organization name | Position title | Request No. | Date vacated
COMMODITY FUTURES TRADING COMMISSION | Office of the Chairperson | Confidential Assistant Director, Office of Public Affairs | CT180001 CT170009 | 03/01/2019 03/16/2019
DEPARTMENT OF AGRICULTURE | Office of Communications | Deputy Director (Press Secretary) Press Secretary | DA170138 DA180233 | 03/16/2019 03/16/2019
| Office of the Assistant Secretary for Congressional Relations | Associate Director Staff Assistant (2) | DA180236 DA180118 DA180157 | 03/16/2019 03/15/2019 03/16/2019
| Office of the Secretary | Director of Policy Coordination | DA180158 | 03/16/2019
|  | Program Specialist | DA180147 | 03/16/2019
| Office of Rural Housing Service | Senior Advisor | DA180259 | 03/16/2019
DEPARTMENT OF COMMERCE | Bureau of Industry and Security | Director of Congressional and Public Affairs | DC180149 | 03/16/2019
| Office of White House Liaison | Special Assistant | DC180199 | 03/16/2019
| Office of the Deputy Assistant Secretary | Special Advisor | DC180123 | 03/31/2019
OFFICE OF THE SECRETARY OF DEFENSE | Office of the Assistant Secretary of Defense (Special Operations/Low Intensity Conflict) | Special Assistant to the Deputy Assistant Secretary of Defense for Stability and Humanitarian Affairs | DD170217 | 03/03/2019
|  | Special Assistant to the Deputy Assistant Secretary of Defense Special Operations and Combating Terrorism | DD180028 | 03/09/2019
| Washington Headquarters Services | Defense Fellow | DD180058 | 03/16/2019
DEPARTMENT OF EDUCATION | Office of Communications and Outreach | Special Assistant | DB180053 | 03/02/2019
| Office of the Deputy Secretary | Confidential Assistant | DB190043 | 03/14/2019
DEPARTMENT OF ENERGY | Office of the Chief Financial Officer | Chief of Staff | DE180154 | 03/02/2019
DEPARTMENT OF HEALTH AND HUMAN SERVICES | Office of the Administration for Children and Families | Principal Deputy Director for Office of Refugee Resettlement | DH170229 | 03/30/2019
| Centers for Medicare and Medicaid Services | Senior Advisor | DH170172 | 03/16/2019
| Office of Intergovernmental and External Affairs | Senior Advisor | DH180092 | 03/02/2019
| Director of Intergovernmental Affairs | DH170133 | 03/16/2019
| Office of the Administrator | Senior Advisor (Substance Abuse) | DH170301 | 03/16/2019
| Office of the Assistant Secretary for Public Affairs | Director of Digital Media | DH180158 | 03/15/2019
| Office of the General Counsel | Assistant to the General Counsel | DH170327 | 03/16/2019
| Office of the Secretary | Policy Advisor | DH180123 | 03/02/2019
|  | Advisor to the Office of the Secretary | DH180194 | 03/16/2019
|  | Special Assistant for Health Policy | DH170242 | 03/23/2019
DEPARTMENT OF HOMELAND SECURITY | Office of the Assistant Secretary for Public Affairs | Deputy Press Secretary | DM180231 | 03/08/2019
| Office of the Assistant Secretary for Policy | Advisor | DM170105 | 03/09/2019
| Office of United States Citizenship and Immigration Services | Advisor to the Director | DM180042 | 03/17/2019
DEPARTMENT OF HOUSING AND URBAN DEVELOPMENT | Office of the Secretary | Policy and Programs Officer | DU180068 | 03/30/2019
DEPARTMENT OF JUSTICE | Office of Legal Policy | Counsel | DJ180027 | 03/30/2019
DEPARTMENT OF THE TREASURY | Office of the Assistant Secretary for International Markets and Development | Special Assistant | DY180069 | 03/16/2019
DEPARTMENT OF TRANSPORTATION | Office of the Administrator | Director of Governmental Affairs (2) | DT170081 DT180009 | 03/16/2019 03/16/2019
|  | Special Assistant | DT170127 | 03/30/2019
| Office of the Assistant Secretary for Budget and Programs | Special Assistant | DT180032 | 03/02/2019
| Office of the Secretary | Deputy Director of Scheduling and Advance | DT180026 | 03/03/2019
|  | Special Assistant for Advance | DT180036 | 03/16/2019
ENVIRONMENTAL PROTECTION AGENCY | Office of the Associate Administrator for Congressional and Intergovernmental Relations | Special Advisor to the Associate Administrator for Office of Congressional and Intergovernmental Relations | EP180059 | 03/16/2019
| Office of the Chief Financial Officer | Senior Advisor to the Administrator for Financial Management | EP180099 | 03/16/2019
| Region II—New York, New York | Special Assistant to the Regional Administrator | EP180015 | 03/16/2019
| Office of the Associate of the Administrator for Policy | Policy Advisor | EP180078 | 03/30/2019
| Office of the Administrator | White House Liaison | EP180072 | 03/31/2019
GENERAL SERVICES ADMINISTRATION | Office of Regional Administrators | Special Assistant to the Regional Administrator | GS170019 | 03/01/2019
| Office of the Administrator | Confidential Assistant | GS180023 | 03/04/2019
NATIONAL ENDOWMENT FOR THE HUMANITIES | National Endowment for the Humanities | Director of Communications | NH170005 | 03/30/2019
OFFICE OF PERSONNEL MANAGEMENT | Office of the Director Office of Communications | White House Liaison Special Assistant for Advance | PM180012 PM180053 | 03/19/2019 03/29/2019
| Office of Congressional, Legislative and Intergovernmental Affairs | Legislative Director | PM180015 | 03/31/2019
OFFICIAL RESIDENCE OF THE VICE PRESIDENT | Official Residence of the Vice President | Deputy Residence Manager | RV170001 | 03/09/2019
PRESIDENTS COMMISSION ON WHITE HOUSE FELLOWSHIPS | Presidents Commission on White House Fellowships | Assistant Director for Operations and Recruitment | WH180001 | 03/04/2019
SECURITIES AND EXCHANGE COMMISSION | Office of the Chairman | Writer-Editor | SE180004 | 03/15/2019
SMALL BUSINESS ADMINISTRATION | Office of Congressional and Legislative Affairs | Legislative Assistant | SB180044 | 03/02/2019
| Office of Capital Access | Special Assistant | SB180030 | 03/22/2019

Authority: 5 U.S.C. 3301 and 3302; E.O. 10577, 3 CFR, 1954-1958 Comp., p. 218.

Office of Personnel Management.
Alexys Stanley,
Regulatory Affairs Analyst.

[FR Doc. 2019-15596 Filed 7-22-19; 8:45 am]

BILLING CODE 6325-39-P